DEPARTMENT OF THE INTERIOR

Bureau of Land Management

[CO-600-02-1040-PG-241A]

Southwest Colorado and Northwest Colorado Resource Advisory Council Meetings

AGENCY: Bureau of Land Management, Interior.

ACTION: Notice of meetings.

SUMMARY: Notice is hereby given that the next two meetings of the Southwest Resource Advisory Council (RAC) will be held June 7, 2002, at the Gunnison County Multi Purpose Bldg., 275 South Spruce, in Gunnison, Colorado and August 16, 2002, at the Anasazi Heritage Center, 27501 Highway 184, in Dolores, Colorado. Notice is also given that the next two meetings of the Northwest RAC will be held June 13, 2002, at the Holiday Inn, 755 Horizon Drive, in Grand Junction, Colorado and August 8, 2002, at the U.S. Forest Service Office, 925 Weiss Dr., in Steamboat Springs, Colorado.

DATES: Southwest RAC meetings June 7, 2002 and August 16, 2002; Northwest RAC meetings June 13, 2002 and August 8, 2002.

FOR FURTHER INFORMATION CONTACT: Larry J. Porter, Bureau of Land Management, 2815 H Road, Grand Junction, Colorado 81506; Telephone (970) 244-3012.

SUPPLEMENTARY INFORMATION: The Southwest RAC will meet on Friday, June 7, 2002, at the Gunnison County Multi Purpose Bldg., 275 South Spruce, in Gunnison, Colorado. The meeting will begin at 9:30 a.m. and adjourn at 4 p.m. Purpose of the meeting is to consider several resource management topics including wildlife issues, Gunnison Gorge National Conservation Area update, Canyon of the Ancients National Monument update, and the County Partnership Restoration project. The Southwest RAC will also meet on Friday, August 16, 2002, at the Anasazi Heritage Center, 27501 Highway 184, in Dolores, Colorado. The meeting will begin at 9 a.m. and adjourn at 4 p.m. Purpose of the meeting is to consider several resource management topics including Canyon of the Ancients National Monument update, Gunnison Gorge National Conservation Area update, and the County Partnership Restoration project.

The Northwest RAC will meet on Thursday, June 13, 2002, at the Holiday Inn, 755 Horizon Drive, in Grand Junction, Colorado. The meeting will begin at 9 a.m. and adjourn at 4 p.m. Purpose of the meeting is to consider several resource management topics including wildlife issues, oil and natural gas program review, Grand Mesa Slopes update, Weeds Committee report, National Forest Study Committee report, Cultural Resources report, status of travel management planning, and the Colorado Canyons National Conservation Area planning update. The Northwest RAC will also meet on August 8, 2002, at the Forest Service Office located at 925 Weiss Dr. in Steamboat Springs, Colorado. The meeting will begin at 9 a.m. and adjourn at 4 p.m. Purpose of the meeting is to consider several resource management topics including Grand Mesa Slopes update, Colorado Canyons National Conservation Area planning update, and RAC Committee reports.

These meetings are open to the public. Interested members of the public may present written or oral comments to either of the RACs in the morning from 9:30 to 9:50 a.m. and in the afternoon sessions, at a time to begin no later than 3 p.m., on the respective meeting dates. Personal time limits for oral statements may be set to allow all interested individuals an opportunity to speak. Subject to time available, individuals may also be allowed to provide input to the councils during the discussion of agenda topics.

Summary minutes of RAC meetings are maintained in the BLM Western Slope Center Office located at 2815 H Road, Grand Junction, CO 81506, phone (970) 244-3000. Minutes are available for public inspection and reproduction during regular business hours within thirty (30) days following the meeting.

Dated: April 10, 2002.
Dave Atkins,
Acting Northwest Center Manager.

[FR Doc. 02-11090 Filed 5-3-02; 8:45 am]

BILLING CODE 4310-JB-P